DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; issuance of permit amendment.

SUMMARY: Notice is hereby given that a major amendment to Permit No. 14610-02 has been issued to the Alaska Department of Fish and Game (ADFG), Division of Wildlife Conservation, Juneau, AK (Principal Investigator: Lori Quakenbush).

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith or Carrie Hubard, (301) 427-8401.

SUPPLEMENTARY INFORMATION: On April 9, 2014, notice was published in the Federal Register (79 FR19579) that a request for an amendment to Permit No. 14610-02 to conduct research on beluga whales (Delphinapterus leucas), endangered bowhead whales (Balaena mysticetus), gray whales (Eschrictius robustus), and endangered humpback whales (Megaptera novaeangliae) had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The previous permit (No. 14610-02) authorized vessel and aerial surveys, remote biopsy and instrument attachment for the above listed cetacean species. Amended Permit No. 14610-03 now authorizes take for vessel surveys and photo-identification to determine stock or feeding group affiliation of gray whales encountered in Alaskan waters (Chukchi and western Beaufort seas). Additional gray whale takes by harassment during photo-identification efforts (300 annually), and tagging and biopsy activities (50 annually) are now authorized. The amendment also authorizes tag attachment methods to be altered to allow for the attachment of tags using a two-anchor system on bowhead whales. The amended permit is valid through the expiration date of the original permit, May 31, 2015.

A supplement environmental assessment (SEA) analyzing the effects of the permitted activities on the human environment was prepared in compliance with the National Environmental Policy Act of 1969 (42 U.S.C. 4321 et seq.). Based on the analyses in the SEA, NMFS determined that issuance of the permit amendment would not significantly impact the quality of the human environment and that preparation of an environmental impact statement was not required. That determination is documented in a Finding of No Significant Impact, signed on August 8, 2014.

As required by the ESA, issuance of this permit was based on a finding that such permit: (1) Was applied for in good faith; (2) will not operate to the disadvantage of such endangered species; and (3) is consistent with the purposes and policies set forth in section 2 of the ESA.

Dated: August 25, 2014.
Julia Harrison,
Chief, Permits and Conservation Division, Office of Protected Resources, National Marine Fisheries Service.

[FR Doc. 2014-20491 Filed 8-27-14; 8:45 am]

BILLING CODE 3510-22-P